FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 4, 2009.

A. Federal Reserve Bank of Dallas (E. Ann Worthy, Vice President) 2200 North Pearl Street, Dallas, Texas 75201-2272:

1. John B. Jones and Emma D. Jones, Anna, Texas; John G. Jones and Wendy D. Jones, McKinney, Texas; and Jennifer Jones Perkins and Michael W. Perkins, Carrollton, Texas, acting in concert, to acquire voting shares of The Community Group, Inc., and thereby indirectly acquire voting shares of United Community Bank, N.A., both of Highland Village, Texas.

B. Federal Reserve Bank of San Francisco (Kenneth Binning, Vice President, Applications and Enforcement) 101 Market Street, San Francisco, California 94105-1579:

1. Dorothy Margaret Daly, Oak Brook, Illinois, individually and as executor of the estate of Denis J. Daly, Sr., or trustee of various trusts, to retain voting shares of Trans Pacific Bancorp, Inc., and thereby indirectly retain voting shares of Trans Pacific National Bank, both of San Francisco, California.

Board of Governors of the Federal Reserve System, January 14, 2009.
Robert deV. Frierson,
Deputy Secretary of the Board.

[FR Doc. E9-1086 Filed 1-16-09; 8:45 am]

BILLING CODE 6210-01-S